Title 3—

The President

Proclamation 7334 of August 26, 2000

Women's Equality Day, 2000

By the President of the United States of America

A Proclamation

In March of 1776, 4 months before the signing of the Declaration of Independence, Abigail Adams sent a letter to her husband John in Philadelphia, where he was participating in the Second Continental Congress. “...[I]n the new Code of Laws which I suppose it will be necessary for you to make,” she wrote, “I desire you would Remember the Ladies, and be more generous and favourable to them than your ancestors.” Almost a century and a half would pass before her desire was realized with the ratification of the 19th Amendment to the Constitution, guaranteeing women's suffrage.

The road to civic, economic, and social equality for women in our Nation has been long and arduous, marked by frustrations and setbacks, yet inspired by the courageous actions of many heroic Americans, women and men alike. Elizabeth Cady Stanton, Susan B. Anthony, Sojourner Truth, Lucretia Mott, Frederick Douglass, Lucy Stone—these and so many others refused to remain silent in the face of injustice. Speaking out at rallies, circulating pamphlets and petitions, lobbying State legislatures, risking public humiliation and even incarceration, suffragists slowly changed the minds of their fellow Americans and the laws of our Nation.

Thanks to their efforts, by the mid-19th century some States recognized the right of women to own property and to sign contracts independent of their spouses. In 1890, Wyoming became the first State to recognize a woman's right to vote. Thirty years later, the 19th Amendment made women's suffrage the law of the land. But it would take another 40 years to pass the Equal Pay Act of 1963, which promised women the same salary for performing the same jobs as men, and the Civil Rights Act of 1964, which outlawed employment discrimination based on gender. Another 8 years would pass before Title IX of the Education Amendments of 1972 assured American women equal opportunity in education and sports programs.

However, the promise of true equality has yet to be realized. Despite historic changes in laws and attitudes, a significant wage gap between men and women persists, in traditional sectors as well as in emerging fields, such as information technology. While employment of computer scientists, programmers, and operators has increased at a breathtaking rate—by 80 percent since 1983—fewer than one in three of these high-wage jobs is filled by a woman. A recent report by the Council of Economic Advisers noted that, even after allowing for differences in education, age, and occupation, the wage gap between men and women in high-technology professions is still approximately 12 percent—a gap similar to that estimated in the labor market at large—and that, in both the old economy and the new, the gap is even wider for women of color.

To combat unfair pay practices and to close the wage gap between men and women once and for all, I have called on the Congress to support my Administration's Equal Pay Initiative and to pass the Paycheck Fairness Act. And in May of this year, I announced the creation of a new Equal Employment Opportunity Commission (EEOC) Equal Pay Task Force to empower EEOC field staff with the legal, technical, and investigatory support they need to pursue charges of pay discrimination and to take appropriate action whenever such discrimination occurs. I have also proposed in my fiscal 2001 budget an initiative under which the National Science Foundation will provide $20 million in grants to postsecondary institutions and other organizations to promote the full participation of women in the science and technology fields.

Today, a new century lies before us, offering us a fresh opportunity to make real the promise that Abigail Adams dreamed of more than two centuries ago. As we celebrate Women's Equality Day and the 80th anniversary of the ratification of the 19th Amendment, let us keep faith with our mothers, wives, sisters, and daughters by removing any lingering barriers in their path to true equality.

NOW, THEREFORE, I, WILLIAM J. CLINTON, President of the United States of America, by virtue of the authority vested in me by the Constitution and laws of the United States, do hereby proclaim August 26, 2000, as Women's Equality Day. I call upon the citizens of our great Nation to observe this day with appropriate programs and activities.

IN WITNESS WHEREOF, I have hereunto set my hand this twenty-sixth day of August, in the year of our Lord two thousand, and of the Independence of the United States of America the two hundred and twenty-fifth.

wj

[FR Doc. 00-22360

Filed 8-29-00; 8:45 am]

Billing code 3195-01-P